DEPARTMENT OF COMMERCE

National Oceanic and Atmospheric Administration

[I.D. 070104E]

Proposed Information Collection; Comment Request; Southwest Region Gear Identification Requirements

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13(44 U.S.C. 3506(c)(2)(A)).

DATES: Written comments must be submitted on or before September 7, 2004.

ADDRESSES: Direct all written comments to Diana Hynek, Departmental Paperwork Clearance Officer, Department of Commerce, Room 6625, 14th and Constitution Avenue, NW, Washington, DC 20230 (or via Internet at dHynek@doc.gov).

FOR FURTHER INFORMATION CONTACT: Requests for additional information or copies of the information collection instrument and instructions should be directed to Alvin Katekaru, Pacific Islands Regional Office, NMFS, 1601 Kapiolani Blvd., Honolulu, HI 96814.

SUPPLEMENTARY INFORMATION:

I. Abstract

Regulations at 50 CFR 660.24 and 660.47 require that certain fishing gear must be marked. In the western Pacific pelagic longline fisheries, the vessel operator must ensure that the official number of the vessel is affixed to every longline buoy and float. In the western Pacific crustacean fisheries (Permit Area 1, Northwestern Hawaiian Islands) each trap and float must be marked with the vessel's identification number. The marking of gear links fishing or other activity to the vessel, aids law enforcement, and is valuable in actions concerning the damage, loss of gear, and civil proceedings.

II. Methods of Collection

No information is collected (Third party disclosure).

III. Data

OMB Number: 0648-0360.

Form Number: None.

Type of Review: Regular Submission.

Affected Public: Business or other for-profit organizations, and Individuals or households.

Estimated Number of Respondents: 232.

Estimated Time Per Response: 2 minutes per marking.

Estimated Total Annual Burden Hours: 1,420.

Estimated Total Annual Cost to Public: $23,200.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2004.
Gwellnar Banks,
Management Analyst, Office of the Chief Information Officer.

[FR Doc. 04-15399 Filed 7-6-04; 8:45 am]

BILLING CODE 3510-22-S